SMALL BUSINESS ADMINISTRATION

[Disaster Declaration #15622 and #15623; California Disaster Number CA-00288]

Presidential Declaration Amendment of a Major Disaster for the State of California

AGENCY: U.S. Small Business Administration.

ACTION: Amendment 2.

SUMMARY: This is an amendment of the Presidential declaration of a major disaster for the State of California (FEMA-4382-DR), dated 08/04/2018.

Incident: Wildfires and High Winds.

Incident Period: 07/23/2018 through 09/19/2018.

DATES: Issued on 10/01/2018.

Physical Loan Application Deadline Date: 10/03/2018.

Economic Injury (EIDL) Loan Application Deadline Date: 05/06/2019.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of California, dated 08/04/2018, is hereby amended to establish the incident period for this disaster as beginning 07/23/2018 and continuing through 09/19/2018.

All other information in the original declaration remains unchanged.

(Catalog of Federal Domestic Assistance Number 59008)

James Rivera,
Associate Administrator for Disaster Assistance.

[FR Doc. 2018-22109 Filed 10-10-18; 8:45 am]

BILLING CODE 8025-01-P